DEPARTMENT OF HOMELAND SECURITY

Coast Guard

[USCG-2008-0968]

National Boating Safety Advisory Council

AGENCY: Coast Guard, DHS.

ACTION: Notice of meetings; schedule changes.

SUMMARY: On October 1, 2008, The United States Coast Guard published a notice in the Federal Register (73 FR 57126) announcing a meeting of the National Boating Safety Advisory Council (NBSAC) and its subcommittees to discuss issues relating to recreational boating safety. A scheduling conflict has required changes to the subcommittees' meeting times as follows: The Boats and Associated Equipment Subcommittee will meet on Saturday afternoon, November 1, 2008; the Prevention through People Subcommittee will meet on Sunday morning, November 2, 2008; and the Recreational Boating Safety Strategic Planning Subcommittee will meet on Sunday afternoon, November 2, 2008.

DATES: NBSAC will meet on Saturday, November 1, 2008, from 8 a.m. to 11:30 a.m., and on Monday, November 3, 2008, from 8:30 a.m. to 4 p.m. The Boats and Associated Equipment Subcommittee will meet on Saturday, November 1, 2008, from 1 p.m. to 5 p.m. The Prevention through People Subcommittee will meet on Sunday, November 2, 2008, from 8 a.m. to 12 noon. The Recreational Boating Safety Strategic Planning Subcommittee will meet on Sunday, November 2, 2008, from 1:30 p.m. to 5 p.m. These meetings may close early if all business is finished. On Sunday, November 2, 2008, the Recreational Boating Safety Strategic Planning Subcommittee meeting may start earlier if the preceding Subcommittee meeting closes early.

ADDRESSES: NBSAC and its Subcommittees will meet at the Holiday Inn Arlington, 4610 Fairfax Drive, Arlington, VA 22203. Please send written material, comments, and requests to make oral presentations to Mr. Jeff Ludwig, Executive Secretary of NBSAC, Commandant (CG-54221), U.S. Coast Guard Headquarters, 2100 Second Street, SW., Washington, DC 20593-0001. This notice is available on the Internet at http://www.regulations.gov or the Boating Safety Division's Web site at: http://www.uscgboating.org/nbsac/nbsac.htm.

FOR FURTHER INFORMATION CONTACT: Mr. Jeff Ludwig, Executive Secretary of NBSAC, COMDT (CG-54221), 2100 2nd Street, SW., Washington, DC 20593; (202) 372-1061; Jeffrey.a.ludwig@uscg.mil.

SUPPLEMENTARY INFORMATION: Notice of these meetings is given under the Federal Advisory Committee Act, 5 U.S.C. App. 2. NBSAC and its Subcommittee will meet for the purpose of discussing issues related to recreational boating safety.

Tentative Agendas of Meetings

National Boating Safety Advisory Council (NBSAC)

Saturday, November 1, 2008:

(1) Remarks—Mr. James P. Muldoon, NBSAC Chairman.

(2) Chief, Office of Auxiliary and Boating Safety Update on NBSAC Resolutions and Recreational Boating Safety Program report.

(3) Executive Secretary's report.

(4) Chairman's session.

(5) TSAC Liaison's report.

(6) NAVSAC Liaison's report.

(7) National Association of State Boating Law Administrators report.

(8) Prevention Through People Subcommittee report.

(9) Boats and Associated Equipment Subcommittee report.

(10) Recreational Boating Safety Strategic Planning Subcommittee report.

(11) Boats and Associated Equipment Subcommittee meeting.

Sunday, November 2, 2008:

(12) Prevention Through People Subcommittee meeting.

(13) Recreational Boating Safety Strategic Planning Subcommittee meeting.

Monday, November 3, 2008:

(14) National Youth Marine Alliance Presentation.

(15) U.S. Rowing Presentation.

(16) Bombardier Recreational Products Presentation.

(17) Boats and Associated Equipment Report.

(18) Prevention through People Report.

(19) Recreational Boating Safety Strategic Planning Report.

A more detailed agenda can be found at: http://www.uscgboating.org/nbsac/nbsac.htm, after October 24, 2008.

NBSAC Subcommittees

Prevention Through People Subcommittee: Discuss current regulatory projects, grants, contracts, and new issues affecting the prevention of boating accidents through outreach and education of boaters.

Boats and Associated Equipment Subcommittee: Discuss current regulatory projects, grants, contracts, and new issues affecting boats and associated equipment.

Recreational Boating Safety Strategic Planning Subcommittee: Discuss current status of the strategic planning process and any new issues or factors that could impact, or contribute to, the development of the strategic plan for the recreational boating safety program.

Information on Services for Individuals with Disabilities: For information on facilities or services for individuals with disabilities or to request special assistance at the meetings, contact the Executive Secretary of NBSAC as soon as possible.

Dated: October 21, 2008.
Frank J. Sturm,
Captain, U.S. Coast Guard, Director of Prevention Policy (Acting).

[FR Doc. E8-25832 Filed 10-28-08; 8:45 am]

BILLING CODE 4910-15-P